DEPARTMENT OF COMMERCE

National Oceanic and Atmospheric Administration

[I.D. 072205D]

Endangered Species; File No. 1547

AGENCY: National Marine Fisheries Service (NMFS), National Oceanic and Atmospheric Administration (NOAA), Commerce.

ACTION: Notice; application for permit

SUMMARY: Notice is hereby given that New York State Department of Environmental Conservation (Kathryn Hattala, Principal Investigator; Gregg Kenney, Primary Contact/Co-Investigator), 21 South Putt Corners Road, New Paltz, NY 12561, has applied in due form for a permit to take shortnose sturgeon (Acipenser brevirostrum) for purposes of scientific research.

DATES: Written, telefaxed, or e-mail comments must be received on or before September 7, 2005.

ADDRESSES: The application and related documents are available for review upon written request or by appointment in the following offices:

Permits, Conservation and Education Division, Office of Protected Resources, NMFS, 1315 East-West Highway, Room 13705, Silver Spring, MD 20910; phone (301)713-2289; fax (301)427-2521; and

Northeast Region, NMFS, One Blackburn Drive, Gloucester, MA 01930-2298; phone (978)281-9328; fax (978)281-9394.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing email comments is NMFS.Pr1Comments@noaa.gov. Include in the subject line of the e-mail comment the following document identifier: File No. 1547.

FOR FURTHER INFORMATION CONTACT: Shane Guan or Carrie Hubard, (301)713-2289.

SUPPLEMENTARY INFORMATION: The subject permit is requested under the authority of the Endangered Species Act of 1973, as amended (ESA; 16 U.S.C. 1531 et seq.) and the regulations governing the taking, importing, and exporting of endangered and threatened species (50 CFR 222-226).

The New York State Department of Environmental Conservation proposes to conduct scientific research to evaluate seasonal movement of shortnose sturgeon in Haverstraw and Newburgh Bays of the Hudson River. A maximum of 500 adult and juvenile shortnose sturgeon would be captured with gill nets, measured, weighed, scanned for tags, PIT and Carlin tagged if untagged, and released annually. The permit is requested for a duration of 5 years.

Dated: August 1, 2005.
Stephen L. Leathery,
Chief, Permits, Conservation and Education Division, Office of Protected Resources, National Marine Fisheries Service.

[FR Doc. 05-15645 Filed 8-5-05; 8:45 am]

BILLING CODE 3510-22-S